SMALL BUSINESS ADMINISTRATION

[Declaration of Disaster #3371]

State of Oklahoma; Amendment # 1

In accordance with a notice received from the Federal Emergency Management Agency, dated November 16, 2001, the above numbered declaration is hereby amended to include Caddo and Kiowa Counties in the State of Oklahoma as disaster areas due to damages caused by severe storms, flooding and tornadoes that occurred on October 9 and 10, 2001.

In addition, applications for economic injury loans from small businesses located in the following contiguous counties may be filed until the specified date at the previously designated location: Blaine, Canadian, Comanche, Grady, Jackson and Tillman counties in Oklahoma.

All other contiguous counties have been previously declared.

All other information remains the same, i.e., the deadline for filing applications for physical damage is December 30, 2001, and for economic injury July 31, 2002.

(Catalog of Federal Domestic Assistance Program Nos. 59002 and 59008).
Dated: November 16, 2001.
S. George Camp,
Acting Associate Administrator For Disaster Assistance.

[FR Doc. 01-29379 Filed 11-23-01; 8:45 am]

BILLING CODE 8025-01-P